ENVIRONMENTAL PROTECTION AGENCY

40 CFR Part 52

[IA 200-1200; FRL-7608-3]

Approval and Promulgation of Implementation Plans; State of Iowa; Correction

AGENCY: Environmental Protection Agency (EPA).

ACTION: Correcting amendments.

SUMMARY: On October 8, 2003, EPA published a direct final action approving revisions to the Iowa State Implementation Plan (SIP). In the October 8, 2003, rule, EPA inadvertently deleted a clarifying statement in the Comments column for Polk County Board of Health Rules and Regulations Air Pollution Chapter V. We are making a correction in this document.

DATES: This action is effective January 9, 2004.

FOR FURTHER INFORMATION CONTACT: Heather Hamilton (913) 551-7039, or e-mail her at hamilton.heather@epa.gov.

SUPPLEMENTARY INFORMATION: EPA published a SIP revision for Iowa for Polk County Board of Health Rules and Regulations Air Pollution Chapter V, on June 13, 1995 (60 FR 31084). Section 52.820(c), Polk County, included a statement that Article VIII and Article XIII of the Polk County rules are not a part of the SIP. This clarification was inadvertently omitted in the prior rule. Therefore, in this correction notice we are reinserting this information into the table.

Section 553 of the Administrative Procedure Act, 5 U.S.C. 553(b)(B), provides that, when an agency for good cause finds that notice and public procedures are impracticable, unnecessary, or contrary to the public interest, the agency may issue a rule without providing notice and an opportunity for public comment. We have determined that there is such good cause for making today's rule final without prior proposal and opportunity for comment because we are merely reinserting an explanation which was included in a previous action. Thus, notice and public procedure are unnecessary.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects a table consistent with a prior EPA action, and imposes no additional requirements. Accordingly, the Administrator certifies that this rule will not have a significant economic impact on a substantial number of small entities under the Regulatory Flexibility Act (5 U.S.C. 601 et seq.). Because this rule merely reinserts clarifying language included in a previous action, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), for the reasons stated above, and does not alter the relationship or the distribution of power and responsibilities established in the Clean Air Act (CAA). This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. As stated previously, we made such a good cause finding, including the reasons therefore and established an effective date of January 9, 2004. We will submit a report containing this rule and other required information to the United States Senate, the United States House of Representatives, and the Comptroller General of the United States prior to publication of the rule in the Federal Register. This correction to the Iowa SIP table is not a “major rule” as defined by 5 U.S.C. 804 et seq (2).

Dated: December 22, 2003.
James B. Gulliford,
Regional Administrator, Region 7.

Chapter I, title 40 of the Code of Federal Regulations is amended as follows:

PART 52—[AMENDED]

1. The authority citation for part 52 continues to read as follows:

Authority: 42 U.S.C. 7401 et seq.

Subpart Q—Iowa

2. In § 52.820 the table in paragraph (c) is amended by revising the entry in the Comments column for “Chapter V” under “Polk County” to read as follows:

§ 52.820 Identification of plan.

* * * * *

(c) * * *

EPA—Approved Iowa Regulations
Iowa citation | Title | State effective date | EPA approval date | Comments
Iowa Department of Natural Resources, Environmental Protection Commission [567]
* * * * * * *
Polk County
Chapter V | Polk County Board of Health Rules and Regulations Air Pollution Chapter V | 4/15/1998 10/4/2000 | 1/09/04 FR page and cite | Article I, Board of Section 5-2, definition of “variance”; Article VI, Sections 5-16(n), (o) and (p); Article VIII, Article IX, Sections 5-27(3) and (4), Article XIII, and Article XVI, Section 5-75(b) are not a part of the SIP.

* * * * *

[FR Doc. 04-374 Filed 1-8-04; 8:45 am]

BILLING CODE 6560-50-P